DEPARTMENT OF HOUSING AND URBAN DEVELOPMENT

[Docket No. FR-6465-N-01]

Appointments to the Housing Counseling Federal Advisory Committee; Solicitation of Nominations

AGENCY: Office of the Assistant Secretary for Housing—Federal Housing Commissioner, Department of Housing and Urban Development (HUD).

ACTION: Notice.

SUMMARY: The Department of Housing and Urban Development (HUD) established the Housing Counseling Federal Advisory Committee (HCFAC) on April 14, 2015. This notice invites nominations for appointments to fill vacancies on the HCFAC.

DATES: All nominations must be received no later than July 15, 2024.

ADDRESSES: Nominations must be in writing using form HUD 95000 (Application for Membership on the HCFAC, OMB Approval Number: 2502-0606) and submitted via email to HCFAC.application@hud.gov. Individuals who do not have internet access may submit nominations to the Office of the Deputy Assistant Secretary for Housing Counseling, HUD, Attn: Toneisha Basil, 451 7th Street SW, Washington, DC 20410.

FOR FURTHER INFORMATION CONTACT: Virginia F. Holman, Housing Program Specialist, U.S. Department of Housing and Urban Development, Office of Housing Counseling, Office of Outreach and Capacity Building, Virginia.F.Holman@hud.gov, telephone number 540-894-7790 (this is not a toll-free number). HUD welcomes and is prepared to receive calls from individuals who are deaf or hard of hearing, as well as individuals with speech and communication disabilities. To learn more about how to make an accessible telephone call, please visit: https://www.fcc.gov/consumers/guides/telecommunications-relay-service-trs. Individuals with questions may also email HCFAC.application@hud.gov with “HCFAC application question” in the subject line.

SUPPLEMENTARY INFORMATION:

I. Background and Authority

The HCFAC is congressionally mandated to provide advice to the Office of Housing Counseling (OHC) (42 U.S.C. 3533(g)(4)). The HCFAC provides the OHC valuable advice regarding its mission to provide individuals and families with the knowledge they need to obtain, sustain, and improve their housing through a strong national network of HUD-approved housing counseling agencies and HUD-certified counselors. The HCFAC, however, does not have any role in reviewing or awarding OHC housing counseling grants and procurement contracts. The HCFAC is subject to the requirements of the Federal Advisory Committee Act (Pub. L. 92-463, 5 U.S.C. 1001 et seq.).

By statute, the HCFAC shall consist of not more than 12 individuals appointed by the Secretary (42 U.S.C. 3533(g)(4)(B)). The membership will equally represent the mortgage industry, the real estate industry, consumers, and HUD-approved housing counseling agencies. Each member shall be appointed in his or her individual capacity for a term of up to 3 years.

II. Nominations for the Housing Counseling Federal Advisory Committee

HUD is seeking nominations for membership on the HCFAC. Nominees shall equally represent the mortgage and real estate industries, including consumers and HUD-approved housing counseling agencies. Nominations may be made by agency officials, members of Congress, the general public, or professional organizations, as well as self-nominations. Nominees must be U.S. citizens and cannot be U.S. Government employees.

All appointed nominees will be serving on the HCFAC in their individual capacity, and not in a representative capacity, therefore, no Federally-registered lobbyists may serve on the HCFAC.¹ Individual capacity, as clarified by OMB, refers to individuals who are appointed to committees to exercise their own individual best judgment on behalf of the Government, such as when they are designated as Special Government Employees as defined in 18 U.S.C. 202.

¹ See 79 FR 47482 (“Revised Guidance on Appointment of Lobbyists to Federal Advisory Committees, Boards, and Commissions”) (clarifying that federally registered lobbyists may not serve on advisory committee, board, or Commission in an “individual capacity.”)

Nominations to the HCFAC must be submitted using a HUD-90005 which is available on the Office of Housing Counseling's Federal Advisory Committee web page at: https://www.hud.gov/program_offices/housing/sfh/hcc. It is also available at HUD's Client Information Policy Systems (HUDClips) at: https://www.hud.gov/guidance. Each nominee will be required to provide all the information on HUD-90005. The submission of a resume with work experience is optional.

Nominations should be submitted via email to HCFAC.application@hud.gov. Individuals that do not have internet access may submit nominations to the Office of the Deputy Assistant Secretary for Housing Counseling, HUD, Attn: Toneisha Basil, 451 7th Street SW, Washington, DC 20410. Those who submitted applications previously, and those who have been appointed previously, must reapply if they wish to be considered for an appointment. Nominations submitted under this Federal Register Notice shall remain valid for two (2) years after the close of this nomination period. HUD reserves the right to solicit new nominations, at any time, to fill HCFAC vacancies.

All Nominations must be received no later than July 15, 2024.

HCFAC members will be required to adhere to the conflict-of-interest rules applicable to Special Government Employees as such employees are defined in 18 U.S.C. 202(a). The rules include relevant provisions in 18 U.S.C. related to criminal activity, Standards of Ethical Conduct for Employees of the Executive Branch (5 CFR part 2635) and Executive Order 12674 (as modified by E.O. 12731). Therefore, applicants will be required to submit to pre-appointment screenings relating to identity of interest and financial interests that HUD might require. If selected, HCFAC members will also be asked to complete OGE Form 450 (Confidential Financial Disclosure Report).

Members of the HCFAC shall serve without pay but shall receive travel expenses including per diem in lieu of subsistence as authorized by 5 U.S.C. 5703. Regular attendance is essential to the effective operation of the HCFAC.

Please note this notice is not intended to be the exclusive method by which HUD will solicit nominations and expressions of interest to identify qualified candidates; however, all nominees for membership on the HCFAC will be subject to the same application process and evaluation criteria.

III. Selection and Meetings

Member selections will be made by the Secretary and will be based on the Nominee's qualifications to contribute to the accomplishment of the HCFAC's objectives. Membership on the HCFAC is personal to the appointee and committee members serve at the discretion of the Secretary.

The estimated number of meetings (in-person or virtual) anticipated within a fiscal year is four (4). Additional meetings may be held as needed to render advice to the Deputy Assistant Secretary for the Office of Housing Counseling. The meetings may use electronic communication technologies for attendance.

All meetings will be announced by notice in the Federal Register and at Housing Counseling Federal Advisory Committee website at: https://www.hud.gov/program_offices/housing/sfh/hcc/housing_counseling_federal_advisory_committee. Announcements of the meetings will be made using other outreach methods as well.

Julia R. Gordon,
Assistant Secretary for Housing Federal Housing Commission.

[FR Doc. 2024-11799 Filed 5-29-24; 8:45 am]

BILLING CODE 4210-67-P